NATIONAL AERONAUTICS AND SPACE ADMINISTRATION

[Notice 04-090]

National Environmental Policy Act and Executive Order 11990, Protection of Wetlands; International Space Research Park at the John F. Kennedy Space Center, Florida

AGENCY: National Aeronautics and Space Administration.

ACTION: Notice of availability of the Final Environmental Impact Statement (FEIS) for the International Space Research Park (ISRP) at the John F. Kennedy Space Center (KSC).

SUMMARY: Pursuant to the National Environmental Policy Act of 1969 (NEPA), as amended (42 U.S.C. 4321 et seq.), the Council on Environmental Quality Regulations for Implementing the Procedural Provisions of NEPA (40 CFR Parts 1500-1508), and the National Aeronautics and Space Administration (NASA) policy and procedures (14 CFR Part 1216), NASA has prepared a FEIS for the proposed ISRP at KSC, located in Florida. KSC is a major Center within NASA for activities associated with the Space Shuttle and International Space Station and is adjacent to Cape Canaveral Air Force Station from which many NASA missions are launched. The purpose of the ISRP is to facilitate world-class research and development (R&D) in areas critical to the long-term success of KSC, its users, and operators. NASA has entered into an agreement with the State of Florida, through the Florida Space Authority (FSA), to jointly study the development of up to 160 ha (400 ac) of land on KSC as a research park. NASA is proposing to lease approximately 142 ha (360 ac) in phases to the State of Florida (through the FSA), which would create an ISRP Authority (ISRPA) to develop and manage the site for the ISRP. The FEIS describes the potential environmental impacts and proposed mitigation associated with development alternatives under the proposed concept as well as the no-action alternative.

DATES: NASA will take no final action on the ISRP before 30 days from the date of publication in the Federal Register of the U.S. Environmental Protection Agency's notice of availability of the ISRP FEIS.

ADDRESSES: The FEIS may be reviewed at the following locations of the Brevard County Library:

(a) Central Brevard Library & Reference Center, 308 Forrest Ave., Cocoa, FL 32922, (321) 633-1792.

(b) Cocoa Beach Branch Library, 550 North Brevard Ave, Cocoa Beach, FL 32931, (321) 868-1104.

(c) Melbourne Branch Library, 540 E. Fee Ave., Melbourne, FL 32901, (321) 952-4514.

(d) Merritt Island Branch Library, 1195 North Courtenay Parkway Merritt Island, FL 32953, (321) 455-1369.

(e) St. Johns Branch Library, 6500 Carole Ave., Port St. John, FL 32927, (321) 633-1867.

(f) North Brevard Branch Library, 2121 S. Hopkins Ave., Titusville, FL 32780, (321) 264-5026.

The FEIS may also be examined at the following NASA locations by contacting the pertinent Freedom of Information Act Office:

(g) NASA, Ames Research Center, Moffett Field, CA 94035 (650-604-1181).

(h) NASA, Dryden Flight Research Center, P.O. Box 273, Edwards, CA 93523 (661-276-2704).

(i) NASA, Glenn Research Center at Lewis Field, 21000 Brookpark Road, Cleveland, OH 44135 (216-433-2755).

(j) NASA, Goddard Space Flight Center, Greenbelt Road, Greenbelt, MD 20771 (301-286-0730).

(k) NASA, Johnson Space Center, Houston, TX 77058 (281-483-8612).

(l) NASA, Langley Research Center, Hampton, VA 23681 (757-864-2497).

(m) NASA, Marshall Space Flight Center, Huntsville, AL 35812 (256-544-2030).

(n) NASA, Stennis Space Center, MS 39529 (228-688-2164).

In addition, the FEIS may be examined at the following locations:

(o) NASA Headquarters, Library, Room lJ20, 300 E Street SW., Washington, DC 20546 (202-358-0167).

(p) Jet Propulsion Laboratory, Visitors Lobby, Building 249, 4800 Oak Grove Drive, Pasadena, CA 91109 (818-354-5179).

The FEIS can be accessed electronically at http://eis.ksc.nasa.gov/index.cfm.

Limited copies of the FEIS are available, on a first request basis, by contacting Mr. Mario Busacca, NASA, Mail Code TA-C3, Kennedy Space Center, Florida 32899; Telephone: 321-867-8456; e-mail: mario.busacca-1@nasa.gov.

Submit all comments in writing to Mr. Mario Busacca, NASA, Mail Code TA-C3, Kennedy Space Center, Florida 32899, or electronically to mario.busacca-1@nasa.gov.

FOR FURTHER INFORMATION CONTACT: Mr. Mario Busacca, NASA, Mail Code TA-C3, Kennedy Space Center, Florida, 32899; Telephone: 321-867-8456; e-mail: mario.busacca-1@nasa.gov.

SUPPLEMENTARY INFORMATION: The Notice of Availability of the Draft EIS (DEIS) was published by NASA in the Federal Register on January 27, 2004. Copies of the DEIS were sent to more than 180 public agencies, private organizations, and individuals. Fifteen individuals and organizations provided comments on the DEIS. Their comments and the NASA responses are provided in Appendix M of the FEIS. All 15 commentators indicated that Alternative 1 was the most acceptable alternative. The Merritt Island Homeowners Association continued to raise concerns regarding the increase in traffic on Merritt Island, Florida. No other major issues were raised.

The ISRP is intended to support NASA's mission, facilitate public-private collaboration, provide for complementary R&D objectives, and further space commercialization and development, consistent with the Space Act of 1958, as amended to authorize Enhanced-Use Leasing. The mission of the FSA, which would collaborate with NASA in developing the ISRP, is to retain, expand, and diversify the State's space-related industry. As described in the FEIS, the FSA would create an ISRPA under Florida State law to develop and manage the proposed ISRP. As a center for R&D, the ISRP would bring together a dynamic mix of industry, academia, and government researchers to focus their combined strengths in areas of R&D critical to the long-term success of NASA and its partners, including, but not limited to, the FSA.

Study Area and Project Alternatives

Study Area: Kennedy Space Center occupies 56,500 ha (139,490 ac) of land located within Brevard and Volusia Counties and controlled by NASA. The study area includes KSC, Brevard County, and the five adjoining counties (Indian River, Orange, Osceola, Seminole, and Volusia). The alternative development sites proposed for the ISRP are located on KSC along the south portion of Kennedy Parkway South (also known as State Road 3). Kennedy Parkway South is the major north-south transportation arterial that allows public ingress and egress through KSC into Merritt Island and Titusville.

Project Alternatives: Alternatives for development of the ISRP at KSC include: Alternative 1, Alternative 2, and Alternative 3 (No Action Alternative). The first two alternative actions involve developing and operating the ISRP at alternate locations on KSC. The third alternative, the No Action Alternative, involves not developing the ISRP at KSC at this time and continuing present management of the study area.

Alternative 1 (Preferred Alternative): In Alternative 1, NASA proposes the development of the ISRP on approximately 140 ha (345 ac) of KSC property to the west of Kennedy Parkway South (State Road 3). Development and related construction activities would occur on land located immediately south of the KSC Visitors Complex along Space Commerce Way. Approximately 130 ha (321 ac) of the development (Phases A-E) would occur on the west side of Space Commerce Way. Phase F would occur on a 10 ha (24 ac) parcel east of Space Commerce Way, adjacent to and west of the Space Experiments Research and Processing Laboratory (SERPL). The larger area (Phases A-E) considered in Alternative 1 is dominated by citrus groves and includes remnant wetlands and disturbed habitats. The smaller area (Phase F) is undeveloped.

In Alternative 1, development would occur in 6 phases (Phases A-F) over 25 parcels, which would be serviced by approximately 4.5 kilometers (km) (2.8 miles (mi)) of roads. The parcels range from 1.8 to 10.2 ha (4.5 to 25.3 ac) in size with developable acreage between 1.8 and 6.2 ha (4.5 and 15.4 ac). Some parcels have dedicated no-build zones due to existing wetlands and stormwater ponds. The stormwater ponds would become part of the master stormwater system for the park. The proposed stormwater management system includes 10 connected treatment ponds for the collection and treatment of runoff generated from the developed parcels. Parcels would be developed to include 35 percent open space overall. The open space would include a central greenway, which would offer sidewalks and pedestrian access along wetlands and stormwater retention areas.

Alternative 2: Alternative 2 proposes construction and development of the ISRP in six phases on approximately 130 ha (321 ac) located northeast of the KSC south security gate (Gate #3) on Kennedy Parkway South (State Road 3), near B Avenue SW (or Tel-4 Road). This alternative, like Alternative 1, also considered Phase F development of 10 ha (24 ac) east of Space Commerce Way, adjacent to and west of the SERPL. The combined areas considered in Alternative 2 are undeveloped and characterized by high quality pine flatwoods and scrub habitat embedded with wetlands.

The area considered in Alternative 2 (including Phase F) is defined by 26 parcels, which would be serviced by approximately 4.2 (km) (2.6 (mi)) of roads. Of the 26 parcels, 25 parcels are proposed for development. These parcels range in size from 1.6 to 10.0 ha (4.0 to 24.0 ac) with developable acreage from 1.5 to 5.6 ha (3.7 to 13.8 ac). A 34.7 ha (85.7 ac) parcel has been established under this development plan to protect an extensive wetlands system. Four stormwater management ponds are proposed for the collection and treatment of runoff generated from the developed parcels. The Alternative 2 land use plan offers extensive greenways and sidewalks for pedestrian access along the wetland conservation area and between parcels.

Alternative 3 (No Action Alternative): Under the No Action Alternative, no new development would be proposed regarding the ISRP on KSC. The No Action Alterative would result in continuing the present management of the two proposed sites at KSC. Under the No Action Alternative, land currently managed by the U.S. Fish and Wildlife Service (USFWS) would remain under USFWS management. Land leased through 2008 to the Kerr Foundation for citrus grove production would, after the lease expires, become part of the undeveloped KSC buffer, which is managed by the USFWS as part of the Merritt Island National Wildlife Refuge. The USFWS has long-term plans to restore the citrus groves to natural conditions.

NASA has selected Alternative 1 as the Preferred Alternative. The Preferred Alternative has been identified as the option that best meets NASA's purpose and need, and has the fewest significant environmental impacts compared to Alternative 2. Under both Alternatives 1 and 2 and even with the mitigation measures proposed in the FEIS, significant impacts would occur to air quality within KSC due to increased vehicular traffic and to soil composition, structure, and function on-site due to excavation and filling prior to construction. Unavoidable, significant air quality impacts would result from increased vehicular traffic, but would not cause the area to become a non-attainment area under the Clean Air Act for pollutants of concern: carbon monoxide and particulate matter. However, under Alternative 2, the proposed ISRP would result in destruction of high quality scrub and wetlands habitat found at the Alterative 2 site.

To obtain more current data for Alternative 1, an Environmental Site Assessment (ESA), Phase I and II, was conducted to determine if the past practices related to citrus production have left soils or groundwater contamination on the site. (The ESA was finalized in March 2004, after the publication of the ISRP DEIS, and was therefore not included in that document.) The ESA was conducted in accordance with American Society for Testing and Materials (ASTM) E-1527, Phase I and ASTM E-1528, Phase II, Environmental Site Assessment Process. The results of the ESA are summarized here and the final report is included in Appendix L of the FEIS.

Phase I and Phase II sampling at the Alternative 1 site for contamination from the nearby Solid Waste Management Unit sites did not detect levels for many parameters. For other parameters, the levels did not exceed screening criteria. Thus, it was concluded that the Alternative 1 site has not been impacted by the Solid Waste Management Unit sites.

Phase I and Phase II sampling at the Alternative 1 site for contamination from citrus production activities detected arsenic and copper levels at three locations that exceeded residential human health screening criteria, but not industrial human health screening criteria. Thus, it was also concluded that the Alternative 1 site has been only minimally impacted by past citrus production. Copper values in Phase II sampling generally ranged from 16 to 75mg/kg. Copper levels in Samples ISRP-HA-11 and ISRP-HA-12, however, measured 380 and 310 mg/kg, respectively. Arsenic values in the samples generally ranged from 0.20 to 0.77 mg/kg. The arsenic level in Sample ISRP-HA-9, however, measured 3.0 mg/kg, which exceeded industrial human health screening criteria for arsenic. Although the elevated levels in the 3 samples exceed the Florida Department of Environmental Protection Soil Cleanup Target Levels (SCTL) of 110 mg/kg (copper) and 0.80 mg/kg (arsenic) for residential areas, they are below the SCTL of 7,600 mg/kg (copper) and 5 mg/kg (arsenic), respectively, for industrial areas (Florida Administrative Code (F.A.C.), Chapter 62-777). In addition, the arsenic level in Sample ISRP-HA-9 does not exceed the Florida Leachability criterion of 29 mg/kg (F.A.C., Chapter 62-777). Based on these criteria, no impact to ground or surface water is expected from these locations.

The ESA findings do not preclude the development of industrial activities, such as, but not limited to, the types of activities that would occur at the proposed ISRP, anywhere on the Alternative 1 site. Operation of the proposed ISRP would not impact the geology or soils. In addition, given that no residential development is planned for the ISRP, no mitigation or remediation is expected to be required prior to or during development. If a day care center were to be proposed later, the ISRPA, or NASA as the landowner, would conduct any necessary environmental reviews.

Under both alternatives, land use plans have been developed to mitigate wetlands impacts and manage stormwater flow pursuant to Executive Order 11988, Floodplains, and E.O. 11990, Protection of Wetlands. The proposed ISRPA, or NASA as the landowner, would develop a Wetlands Mitigation Plan and obtain a Section 404 Clean Water Act permit and a Florida Environmental Resources Permit (pursuant to the Florida Water Resources Act of 1972). If the terms and conditions of the USFWS Biological Opinion and State permits substantially change the proposed action or alternatives, NASA would conduct further environmental review.

Under both alternatives, land use plans and operations include measures to mitigate potential impacts to Federal and State listed species and critical habitat. Pursuant to Section 7 of the Endangered Species Act, NASA conducted formal consultation with the USFWS for the Preferred Alternative (Alternative 1) and obtained a Biological Opinion indicating No Jeopardy for the eastern indigo snake (Drymarchon corais couperi.) and no adverse modification to critical habitat if the recommended reasonable and prudent measures are implemented. The Biological Opinion approved incidental take of all eastern indigo snakes.

Under Alternative 2, potential direct, indirect, and cumulative impacts to protected wildlife and associated habitat are expected to be highly significant and the ability to mitigate impacts to below significance to be limited. If NASA were to select Alternative 2, NASA would prepare a Biological Assessment and enter into formal consultation to obtain a Biological Opinion for the following federally listed species: Florida scrub-jay (Aphelocoma coerulescens), eastern indigo snake, bald eagle (Haliaeetus leucocephalus), and freshwater swale marsh plants such as Curtiss reedgrass (Calamovilfa curtissii (Vasey) Scribn.). Further, under Alternative 2, State wildlife permits allowing incidental take or relocation of gopher tortoises and any State-listed commensals encountered on the proposed site would need to be obtained pursuant to Rules 68A-25.002 and 68A-27.005, F.A.C. If the terms and conditions of the USFWS Biological Opinion and State permits substantially changed the proposed action under Alternative 2, NASA would conduct further environmental review.

Future projects implemented by the proposed ISRPA in the context of the ISRP will be evaluated for NEPA compliance by the NASA KSC NEPA Document Manager to determine if the project's environmental impacts were adequately described in the FEIS. Any applicable mitigation measures will also be identified. If the project is not adequately covered by the FEIS, then NASA will determine what level of additional NEPA analysis may be required. In addition to the NEPA review, NASA, as a condition of the lease, will review projects proposed by its partner(s) for compliance with the ISRP Design Guide (described in the FEIS), as well as with applicable Federal, State, and local environmental, health, and safety laws, regulations, Executive Orders, and standards.

Olga M. Dominguez,
Deputy Assistant Administrator for Institutional and Corporate Management.

[FR Doc. 04-16077 Filed 7-14-04; 8:45 am]

BILLING CODE 7510-01-P